DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (OFAC) is publishing the names of four individuals and two entities whose property and interests in property have been unblocked pursuant to Executive Order 12978 of October 21, 1995, “Blocking Assets and Prohibiting Transactions With Significant Narcotics Traffickers.”

DATES: The unblocking and removal from the list of Specially Designated Nationals and Blocked Persons (SDN List) of the four individuals and two entities identified in this notice whose property and interests in property were blocked pursuant to Executive Order 12978 of October 21, 1995, is effective on June 24, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. §§ 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 24, 2015, the Associate Director of the Office of Global Targeting removed from the SDN List the individuals and entities listed below, whose property and interests in property were blocked pursuant to the Order:

Individuals

1. PARDO OJEDA, Mauricio, Carrera 18C No. 149-33, Apt. 309, Bogota, Colombia; c/o COMPANIA AGROPECUARIA DEL SUR LTDA., Bogota, Colombia; c/o INVERSIONES AGROINDUSTRIALES DEL OCCIDENTE LTDA., Bogota, Colombia; c/o COLOMBO ANDINA COMERCIAL COALSA LTDA., Bogota, Colombia; c/o AGRONILO S.A., Toro, Valle, Colombia; c/o ALMACAES S.A., Bogota, Colombia; c/o BLACKMORE INVESTMENTS A.V.V., Oranjestad, Aruba; c/o CRETA S.A., La Union, Valle, Colombia; c/o G.L.G. S.A., Bogota, Colombia; c/o ILOVIN S.A., Bogota, Colombia; c/o JOSAFAT S.A., Tulua, Valle, Colombia; c/o RAMAL S.A., Bogota, Colombia; c/o CANADUZ S.A., Cali, Colombia; c/o COPORACION HOTELERA DEL CARIBE LIMITADA, San Andres, Providencia, Colombia; c/o KUTRY MANAGEMENT INC., Panama City, Panama; c/o TARRITOS S.A., Cali, Colombia; DOB 27 Jul 1961; nationality Colombia; citizen Colombia; Cedula No. 19445690 (Colombia) (individual) [SDNT].

2. PRIETO SANTIAGO, Sandra Milena, c/o CRETA S.A., La Union, Valle, Colombia; c/o FRUTAS EXOTICAS COLOMBIANOS S.A., La Union, Valle, Colombia; c/o ASESORES CONSULTORES ASOCIADOS LTDA., Cali, Colombia; DOB 21 Jan 1970; POB Roldanillo, Valle, Colombia; Cedula No. 66702878 (Colombia); Passport AG784916 (Colombia) (individual) [SDNT].

3. CAMACHO VALLEJO, Javier, Carrera 65 No. 14C-90, Casa 65, Cali, Colombia; c/o COMPANIA AGROPECUARIA DEL SUR LTDA., Bogota, Colombia; c/o INVERSIONES AGROINDUSTRIALES DEL OCCIDENTE LTDA., Bogota, Colombia; c/o CAMACHO VALLEJO ASESORES E.U., Cali, Colombia; nationality Colombia; citizen Colombia; Cedula No. 16614154 (Colombia) (individual) [SDNT].

4. CAMACHO VALLEJO, Francisco Jose, Calle 23 BN No. 5-37 of. 202, Cali, Colombia; Carrera 37 No. 6-36, Cali, Colombia; Cedula No. 14443381 (Colombia) (individual) [SDNT] (Linked To: CRETA S.A.; Linked To: ILOVIN S.A.; Linked To: JOSAFAT S.A.; Linked To: CAMACHO VALLEJO ASESORES E.U.; Linked To: CANADUZ S.A.; Linked To: AGROPECUARIA EL NILO S.A.).

Entities

1. BLACKMORE INVESTMENTS A.V.V., L.G. Smith Blvd. 48, Oranjestad, Aruba; P.O. Box 1060, Oranjestad, Aruba; C.R. No. 12128.0 (Aruba) [SDNT].

2. CAMACHO VALLEJO ASESORES E.U. (a.k.a. CAMACHO VALLEJO CONTADORES), Calle 23BN No. 5N-37, Ofc. 202, Cali, Colombia; NIT # 805031109-7 (Colombia) [SDNT].

Dated: June 24, 2015.
Gregory T. Gatjanis,
Associate Director, Office of Global Targeting, Office of Foreign Assets Control.

[FR Doc. 2015-16339 Filed 7-1-15; 8:45 am]

BILLING CODE 4810-AL-P